DEPARTMENT OF HEALTH AND HUMAN SERVICES

Centers for Disease Control and Prevention

[60Day-00-22]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistance Reports Clearance Officer, 1600 Clifton Road, MS-D24, Atlanta, GA 30333. Written comments should be received within 60 days of this notice.

Proposed Project

Implementation of data collection described in Evaluation Guidance for CDC Funded Health Department HIV Prevention Programs To Be Implemented From 2000 to 2003—New—The Centers for Disease Control and Prevention (CDC), National Center for HIV, STD, and TB Prevention (NCHSTP) proposes a collection of standardized HIV evaluation data from health department grantees to ensure delivery of the best possible HIV prevention services. The CDC needs standardized evaluation data from health department grantees for the following reasons: (1) To determine the extent to which HIV prevention efforts have contributed to a reduction in HIV transmission, (2) to improve programs to better meet that goal (3) to help focus technical assistance and support and (4) to be accountable to stakeholders by informing them of progress made in HIV prevention nationwide.

CDC formed evaluation workgroups and panels consisting of expert evaluation consultants, health department representatives, representatives of the National Alliance of State and Territorial AIDS Directors, and CDC staff in order to assess and summarize existing health department evaluation data collections. An extensive review of published and unpublished evaluation data led to the conclusion that even though there is information suggesting a very large number of Americans who receive HIV prevention services, but there were no standardized and scientifically valid evaluation data on HIV prevention services. Based on these findings, the workgroups and panels have concluded that there is a need to monitor intervention plans, implementation, and outcomes on the national, state, and local levels for public health management purposes.

CDC and its prevention partners have specifically identified the types of standardized evaluation data they need to be accountable for the use of federal funds and to conduct systematic analysis of HIV prevention to improve policies and programs. Generally, evaluation data that are needed (but not yet available at the national level) include the types and quality of HIV prevention interventions provided by CDC health department grantees and their grantees, the characteristics of clients targeted and reached by the interventions, and the effects of interventions on client behavior and HIV transmission.

In 1998, the 5-year Cooperative Agreement with state and territorial health departments in CDC Program Announcement 99004 HIV Prevention Projects specified health department evaluation activities and referenced the proposed data collection. The announcement states that the Evaluation Guidance is designed to assist grantees in implementing evaluation activities listed in announcement 99004. Below is a listing of these evaluation activities. In addition, the proposed evaluation data collection forms are sub-categorized under each 99004 evaluation activity.

(1) Evaluating HIV Prevention Community Planning

—CPG Membership Survey

—Table of Estimated Expenditures Form

(2) Designing and Evaluating Intervention Plans

—Aggregate Intervention Plan Data Collection Form for the following types of interventions:

Individual-Level

Group-Level

Outreach

Prevention Case Management

Partner Counseling and Referral Services Health Communication/Public Information Other Interventions

(3) Monitoring and Evaluating the Implementation of HIV Prevention Programs

—Aggregate Process Evaluation Data Collection Form for the following types of intervention:

Individual-Level

Group-Level

Outreach

Prevention Case Management

Partner Counseling and Referral Services Health Communication/Public Information Other Interventions

(4) Evaluating Linkages between the Comprehensive HIV Prevention Plan, CDC funding application and resource allocation

—Data Collection From for Linkages between the CDC funding application and the Comprehensive HIV Prevention Plan

—Data Collection Form for Linkages between Resource Allocation and the Comprehensive HIV Prevention Plan

Ten health departments pilot tested the instruments. The following table was developed from that experience.

Respondents | Number of respondents | Number of responses/respondent | Average burden per response (in hours) | Total burden (in hours)
Health department grantees. | 390 | 18 (total number of data collection forms). | 1.0 | 7020
Total |  |  |  | 7020
The CDC anticipates 2 persons per health department jurisdiction (total # of jurisdictions = 65) to prepare and submit Evaluation Guidance data collection forms annually for the next 3 years (65 × 2 = 130 respondents; 130 × 3 years = 390 total respondents.) Therefore, the total response burden is estimated at 7020 hours (309 × 18 forms.) The total cost to respondents is estimated at $140,400 assuming a working wage for assigned health department personnel of $20.00 over the 3-year period.

Dated: January 28, 2000.
Nancy Cheal,
Acting Associate Director for Policy, Planning, and Evaluation, Centers for Disease Control and Prevention (CDC).

[FR Doc. 00-2384 Filed 2-2-00; 8:45 am]

BILLING CODE 4163-18-M